DEPARTMENT OF COMMERCE

National Oceanic and Atmospheric Administration

RIN 0648-XG137

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC) in Charleston, SC.

DATES: The SSC will meet on Tuesday, May 1, 2018, from 8:30 a.m. to 5:30 p.m.; Wednesday, May 2, 2018, from 8:30 a.m. to 5:30 p.m.; and Thursday, May 3, 2018, from 8:30 a.m. to 3 p.m.

ADDRESSES: The meeting will be held at the Town & Country Inn and Suites, 2008 Savannah Hwy., Charleston, SC 29407; phone: (800) 334-6660 or (843) 571-1000; fax: (843) 766-9444.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION: The following agenda items will be discussed by the SSC during the meeting:

1. SSC member orientation the morning of May 1.

2. Review the recommendations of the Blueline Tilefish Acceptable Biological Catch (ABC) Workgroup and recommend an ABC for Blueline Tilefish from Cape Hatteras, NC to the NC/VA border.

3. Review the recommendations of the Red Snapper ABC Workgroup and recommend a method for determining an ABC for Red Snapper.

4. Receive an update on ongoing research from the Southeast Fisheries Science Center.

5. Review the Southeast Data, Assessment and Review (SEDAR) 56 Black Sea Bass standard stock assessment and provide fishing level recommendations.

6. Review and provide comment on changes and decisions made concerning the Comprehensive ABC Control Rule Amendment during the March Council meeting.

7. Review the SEDAR 55 Vermilion Snapper standard stock assessment and provide fishing level recommendations.

8. Receive updates and progress reports on ongoing Council amendments and activities.

9. Review and provide comment on regulations identified by the Council as being unneeded, outdated, or ineffective and that can be removed from current Fishery Management Plans.

10. Review and comment on the appropriateness of the data used in the Wreckfish Individual Transferable Quota (ITQ) review.

11. Review the most recent projections and available information for Golden Tilefish and recommend a revised ABC as appropriate.

12. Receive updates on SEDAR projects, including the Cobia Stock Identification Workshop; approve the terms of reference, schedule, and identify participants for the Yellowtail Snapper, Cobia, Scamp, and King Mackerel assessments; and recommend assessment priorities for 2020 and beyond.

13. Identify stocks to include as key stocks under the Long-Term Assessment Approach discussed at the October 2017 meeting; review and comment on the information available between assessments and the proposed interim analysis.

14. Review the SSC's Socio-Economic Panel report.

15. Elect a new chair and vice-chair.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m., Tuesday, April 24, 2018.

Multiple opportunities for comment on agenda items will be provided during SSC meetings. Open comment periods will be provided at the start of the meeting and near the conclusion. Those interested in providing comment should indicate such in the manner requested by the Chair, who will then recognize individuals to provide comment.

Additional opportunities for comment on specific agenda items will be provided, as each item is discussed, between initial presentations and SSC discussion. Those interested in providing comment should indicate such in the manner requested by the Chair, who will then recognize individuals to provide comment. All comments are part of the record of the meeting.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: April 6, 2018.
Tracey L. Thompson,
Acting Deputy Director, Office of Sustainable Fisheries, National Marine Fisheries Service.

[FR Doc. 2018-07468 Filed 4-10-18; 8:45 am]

BILLING CODE 3510-22-P